DEPARTMENT OF DEFENSE

Office of the Secretary

Department of Defense Science and Technology Reinvention Laboratory Personnel Demonstration Project Program

AGENCY: Under Secretary of Defense for Research and Engineering (USD(R&E)), Department of Defense (DoD).

ACTION: This notice provides new authorities to all Science and Technology Reinvention Laboratory (STRL) Personnel Demonstration (Demo) Projects.

SUMMARY: STRLs may implement innovative approaches to attract and retain exceptional talent. The flexibilities described herein allow the STRLs to better manage their workforce and applicant pools by providing: A streamlined approach to receiving applications; an efficient process for determining whether applicants are qualified; flexibility to set an entrance on duty date prior to receipt of an applicant's official transcript; an additional direct hiring authority; a flexible-length and renewable-term appointment authority for positions providing direct support to the STRL; an increase in the maximum student loan repayment amount; and the ability to waive the completion of a background investigation prior to employment in a Special-Sensitive position.

DATES: Implementation of this Federal Register notice will begin no earlier than December 7, 2020.

FOR FURTHER INFORMATION CONTACT:

Department of the Air Force:

• Air Force Research Laboratory: Ms. Rosalyn Jones-Byrd, 937-656-9747, Rosalyn.Jones-Byrd@us.af.mil.

• Joint Warfare Analysis Center: Ms. Amy Balmaz, 540-653-8598, Amy.T.Balmaz.civ@mail.mil.

Department of the Army:

• Army Research Institute for the Behavioral and Social Sciences: Dr. Scott Shadrick, 254-288-3800, Scott.B.Shadrick.civ@mail.mil.

• Combat Capabilities Development Command Armaments Center: Mr. Mike Nicotra, 973-724-7764, Michael.J.Nicotra.civ@mail.mil.

• Combat Capabilities Development Command Army Research Laboratory: Mr. Christopher Tahaney, 410-278-9069, Christopher.S.Tahaney.civ@mail.mil.

• Combat Capabilities Development Command Aviation and Missile Center: Ms. Nancy Salmon, 256-876-9647, Nancy.C.Salmon2.civ@mail.mil.

• Combat Capabilities Development Command Chemical Biological Center: Ms. Patricia Milwicz, 410-417-2343, Patricia.L.Milwicz.civ@mail.mil.

• Combat Capabilities Development Command Command, Control, Communications, Computers, Cyber, Intelligence, Surveillance, and Reconnaissance Center: Ms. Angela Clybourn, 443-395-2110, Angela.M.Clyborn.civ@mail.mil.

• Combat Capabilities Development Command Ground Vehicle Systems Center: Ms. Jennifer Davis, 586-306-4166, Jennifer.L.Davis1.civ@mail.mil.

• Combat Capabilities Development Command Soldier Center: Ms. Joelle Montecalvo, 508-206-3421, Joelle.K.Montecalvo.civ@mail.mil.

• Engineer Research and Development Center: Ms. Patricia Sullivan, 601-634-3065, Patricia.M.Sullivan@usace.army.mil.

• Medical Research and Development Command: Ms. Linda Krout, 301-619-7276, Linda.J.Krout.civ@mail.mil.

• Technical Center, Space and Missile Defense Command: Dr. Chad Marshall, 256-955-5697, Chad.J.Marshall.civ@mail.mil.

Department of the Navy:

• Naval Air Warfare Center, Weapons Division and Aircraft Division: Mr. Richard Cracraft, 760-939-8115, Richard.Cracraft@navy.mil.

• Naval Facilities Engineering Command Engineering and Expeditionary Warfare Center: Ms. Lori Leigh, 805-901-5917, Lori.Leigh@navy.mil.

• Naval Information Warfare Centers:

○ Naval Information Warfare Center Atlantic: Mr. Michael Gagnon, 843-218-3871, Michael.L.Gagnon@navy.mil.

○ Naval Information Warfare Center Pacific: Ms. Angela Hanson, 619-553-0833, Angela.Hanson@navy.mil.

• Naval Medical Research Center: Dr. Richard Arnold, 937-938-3877, Richard.Arnold.10@us.af.mil.

• Naval Research Laboratory: Ms. Ginger Kisamore, 202-767-3792, Ginger.Kisamore@nrl.navy.mil.

• Naval Sea Systems Command Warfare Centers: Ms. Diane Brown, 215-897-1619, Diane.J.Brown@navy.mil.

• Office of Naval Research: Ms. Margaret J. Mitchell, 703-588-2364, Margaret.J.Mitchell@navy.mil.

DoD:

• Dr. Jagadeesh Pamulapati, Director, Laboratories and Personnel Office, 571-372-6372, Jagadeesh.Pamulapati.civ@mail.mil.

SUPPLEMENTARY INFORMATION:

1. Background

Section 342(b) of the National Defense Authorization Act (NDAA) for Fiscal Year (FY) 1995, Public Law (Pub. L.) 103-337, as amended by section 1109 of the NDAA for FY 2000, Public Law 106- 65, section 1114 of the NDAA for FY 2001, Public Law 106-398, and section 211 of the NDAA for FY 2017, Public Law 114.328 (10 U.S.C. 2358 note), authorizes the Secretary of Defense (SECDEF), through the USD(R&E), to conduct personnel demonstration projects at DoD laboratories designated as Science and Technology Reinvention Laboratories (STRLs). All STRLs authorized by section 1105 of the NDAA for FY 2010, Public Law 111-84 (10 U.S.C. 2358 note), as amended by section 1104 of the NDAA for FY 2018, Public Law 115-91 (10 U.S.C. 2358 note), as well as any newly designated STRLs authorized by the SECDEF or future legislation, may use the provisions described in this Federal Register Notice (FRN). STRLs implementing these flexibilities must have an approved personnel demonstration project plan published in an FRN and must fulfill any collective bargaining obligations. Each STRL will establish internal operating procedures (IOPs) as appropriate.

The 20 current STRLS are:

• Air Force Research Laboratory

• Joint Warfare Analysis Center

• Army Research Institute for the Behavioral and Social Sciences

• Army Research Laboratory

• Combat Capabilities Development Command Armaments Center

• Combat Capabilities Development Command Aviation and Missile Center

• Combat Capabilities Development Command Chemical Biological Center

• Combat Capabilities Development Command Command, Control, Communications, Computers, Cyber, Intelligence, Surveillance, and Reconnaissance Center

• Combat Capabilities Development Command Ground Vehicle Systems Center

• Combat Capabilities Development Command Soldier Center

• Engineer Research and Development Center

• Medical Research and Development Command

• Technical Center, U.S. Army Space and Missile Defense Command

• Naval Air Warfare Center

• Naval Facilities Engineering Command Engineering and Expeditionary Warfare Center

• Naval Information Warfare Centers, Atlantic and Pacific

• Naval Medical Research Center

• Naval Research Laboratory

• Naval Sea Systems Command Warfare Centers

• Office of Naval Research

2. Summary of Comments

On September 16, 2020 (85 FR 57842-57847), the Department of Defense published a notice titled “Department of Defense Science and Technology Reinvention Laboratory Personnel Demonstration Project Program” for a 30-day public comment period. The public comment period ended on October 16, 2020. No public comments were received.

3. Overview

1. Introduction

A. Purpose

This notice provides new personnel management flexibilities designed to enable the STRLs to be more agile and competitive in attracting, hiring, and continuously shaping world-class candidates in science, technology, engineering, and mathematics (STEM) career fields and in career fields that directly support the STRL mission. This FRN describes several flexibilities that support these innovative approaches to the Federal hiring process including:

(1) Authority to utilize an alternative method to announcing position vacancies.

(2) Authority to modify Office of Personnel Management (OPM) policies when determining a combination of experience and education is qualifying for science and engineering (S&E) positions.

(3) Authority to establish an entrance on duty (EOD) date prior to receipt of official college transcripts.

(4) Authority to utilize direct hire for any position (1) involving 51 percent or more of time in direct support of the STRL mission; (2) identified by the STRL as hard to fill; (3) having a history of high turnover; or (4) requiring a unique, laboratory-related skillset.

(5) Authority to appoint candidates to flexible-length or renewable-term positions that provide direct support to the STRL.

(6) Authority to offer flexible and meaningful student loan repayment options that keep up with college tuition inflation rates.

(7) Authority to make a final job offer and establish an EOD prior to a final favorable eligibility determination at the Top Secret/Sensitive Compartmented Information (SCI) level.

B. Required Waivers to Law and Regulation

Waivers and adaptations of certain title 5, U.S. Code (U.S.C.), and title 5, Code of Federal Regulations (CFR), provisions are required only to the extent that these statutory and regulatory provisions limit or are inconsistent with the actions authorized under these demonstration projects. Appendix A lists waivers needed to enact authorities described in this FRN. Nothing in this plan is intended to preclude the STRLs from adopting or incorporating any law or regulation enacted, adopted, or amended after the effective date of this FRN.

C. Problems With the Present System and Expected Benefits

(1) Despite the authorities already established for the STRLs, it is difficult to find and attract specialized talent in high-demand STEM and direct support career fields as they compete with other Government agencies, industry, and academia. The STRLs have difficulty hiring elite talent because of long, arbitrary, and layered processes, unlike their industry counterparts, who are able to pay more, hire faster, and be more agile.

USAJobs creates a hindrance as the STRLs try to attract highly sought after talent, both external and internal to the Federal government. Candidates must search through pages of opportunities, which may or may not lead to STRL opportunities; job advertisements often lack luster in description; and candidates face a long application process if they do apply to opportunities. This, coupled with the extensive onboarding process, creates a huge deterrent as the STRLs compete to attract top-tier talent.

In order for STRLs to obtain a competitive edge in the battle for talent, it is imperative that they have an expedited, simpler method for finding interested candidates and ensuring their resumes are seen by hiring managers. USAJobs flyer job announcements for direct hire and reassignment opportunities will direct the applicants to the hiring STRL without having to apply through the lengthy USAJobs process and the Component's application process.

(2) Many STRL S&E positions are considered interdisciplinary in nature as different skillsets are equally relevant to the work. Additionally, OPM classification and qualification standards are not kept up to date with newer career fields, emerging technologies, and changing skill requirements. The ability to hire based on demonstrated skillsets instead of degrees attained for specific occupational series will enable the STRLs to focus on hiring talent versus credentials.

The OPM “General Schedule Qualifications Policies” describe a method of qualifying a candidate based on demonstrated skills when the candidate does not meet educational requirements. As provided by paragraph 4.g. in the “Application of Qualification Standards” section, “Educational and Training Provisions or Requirements” subsection, a comprehensive evaluation of the applicant's entire background is made by a panel of at least two individuals with professional standing in the field.

In an effort to reduce the time it takes to establish a panel and hold the review, one subject matter expert (SME) will be considered sufficient to qualify the applicant for STRL positions. STRL managers with direct knowledge of the mission, regardless of their occupational series or military occupation codes, will be considered SMEs for purposes of determining qualifications under this authority.

(3) S&E positions have positive education requirements that must be verified by the hiring authorities. Servicing personnel offices typically request unofficial transcripts or a letter from the registrar from applicants in the beginning stages of the hiring process in order to make preliminary qualification determinations. Applicants must wait to receive their start dates until after their official transcripts have been received and reviewed.

On average, it takes approximately two weeks to receive transcripts through postal mail and one week to receive electronic transcripts. Both timeframes increase significantly if transcripts are lost or the electronic transcript codes are unknowingly sent to a junk email box. New college graduates face even longer delays as generally there is a four- to six-week delay in obtaining their official transcripts after graduation. At the same time, discrepancies between an official transcript and the unofficial or registrar letter confirming completion of degree requirements occur extremely rarely.

In order for STRLs to compete better with industry and academia, this FRN authorizes STRLs to hire candidates using unofficial transcripts or a letter from the registrar's office stating the student is in the final semester and providing the expected completion/graduation date. These new hires will be required to provide official transcripts within 30 calendar days after they report to duty. This will allow the STRLs to complete the hiring in a parallel versus serial approach, which will significantly reduce the length of the hiring process. If official transcripts are not provided or fail to show proof of the required qualification requirements, individuals may be removed.

(4) STRLs are not just pursuing scientific and engineering talent, but all talent, ensuring there are always qualified staff to support the mission. Strong support staff are essential to ensuring the STRLs are prepared to maintain and advance technology. In addition to the direct hire authorities authorized for S&E positions, the STRLs need to utilize a direct hire authority to recruit for positions that directly support the unique STRL missions, are identified by the STRLs as hard to fill, have a history of high turnover, or require unique, laboratory-related skillsets. For example, recruitment and retention of qualified police officers and security guards have become critical issues for some STRLs. Remote sites must be properly protected by qualified personnel to ensure there is not a mission failure resulting from insufficient protection of property and personnel. The ability to use a direct hire authority for support positions will greatly reduce the hiring timelines and allow for more streamlined hiring processes to promptly place personnel into critical support positions.

(5) STRLs need the ability to shape the mix of skills and expertise in the entire workforce to meet organizational and Department-designated missions in the most cost-effective and efficient manner; to shape the workforce to better respond to such missions; and to reduce the average unit cost of the workforce. Component and DoD-level drawdowns sometimes prevent STRLs from hiring even though the STRLs have funding and industrially funded missions. Typical term appointments, while limited in length, may provide a means to hire during these times.

Similar to the flexible-length and renewable-term technical appointment authority provided in section 1109 of the FY 2016 NDAA, as amended and documented in 82 FR 43339, STRLs need the ability to appoint qualified candidates to positions providing direct support to their missions for a period of more than one year, but not more than six years, with the ability to extend in up to six-year increments. This flexible-length and renewable-term appointment authority will give the STRLs the ability to attract candidates who are willing to accept such flexible assignments, and employees will be given benefits similar to those received by the career workforce.

(6) The average cost for a four-year undergraduate degree can range from $40,000 for in-state tuition and fees at a public university or college to over $225,000 for an Ivy League degree. Advanced degrees add significantly to these costs. The current allowable Student Loan Repayment Program (SLRP) amount, established in 2003, has a maximum of $60,000, paid in $10,000 increments. The average annual inflation rate between 2000 and 2019 for in-state college tuition was 5.13 percent. To remain in line with inflation, and to stay competitive with private industry and academia, the SLRP amount should be over $100,000. At the present SLRP amount, industry is willing to buy out a Federal employee's service agreement in order to entice them to come work for them.

The authority to offer a SLRP up to $125,000 in up to $25,000 yearly installments will provide a meaningful student loan repayment program that may provide the STRLs the ability to recruit, hire, and retain top talent. The Office of the Under Secretary of Defense for Research and Engineering (OUSD(R&E)) may adjust this amount as necessary to maintain competitiveness with industry and academia and to continue to enable the STRLs to attract and recruit top talent.

(7) The present method for obtaining security eligibility for an SCI position is slow and time consuming. Currently, final job offers cannot be extended to candidates for Special-Sensitive positions without their first obtaining a final favorable eligibility determination at the SCI level.

Title 5 CFR 1400.202 prohibits an organization from waiving the security requirements for candidates being selected for these Special-Sensitive positions. This exclusion significantly delays the timeline for hiring a person into a Special-Sensitive position. Average time to complete a Special-Sensitive security investigation is well over a year. This constrains the STRL's ability to complete its mission; causes strain and burnout on the rest of the personnel as they try to fill in for manning gaps; and deters top-tier talent from applying to positions.

The authority to make a final job offer and establish an EOD prior to a final favorable eligibility determination at the Top Secret/SCI level will provide STRLs the ability to make timely job offers.

D. Participating Organizations and Employees

All DoD laboratories designated as STRLs under section 1105 of the NDAA for FY 2010, Public Law 111-84, as amended by section 1105 of the NDAA for FY 2015, Public Law 113-291, and section 1104 of the NDAA for FY 2018, Public Law 115-91 (10 U.S.C. 2358 note), including any newly designated STRLs authorized by the SECDEF or by future legislation, with approved personnel demonstration project plans published in FRNs may use the provisions described in this FRN.

II. Personnel System Changes

A. Description and Implementation

(1) Use of USAJobs Flyers

STRLs have authority to determine when to utilize USAJobs flyers to solicit for STRL positions. Applications may be submitted directly to the human resources liaison in the STRL. Candidates may apply through the link or email address found in the flyer. Postings may be open to internal Government employees and external U.S. citizen candidates. All candidates will be asked to submit supporting documentation to include a resume and official or unofficial transcripts. Flyers will include the following (1) open/close dates, (2) compensation, (3) appointment type and work schedule, (4) duty location, (5) duties, (6) position information, (7) conditions of employment, (8) qualification requirements, (9) education requirements, (10) how candidates will be evaluated, (11) benefits, (12) how to apply, (13) an equal employment opportunity statement, and (14) any additional information determined necessary by the STRL.

a. Positions may be filled through direct hire authorities on a temporary, term, or permanent basis or through reassignment utilizing the USAJobs flyer. When documenting direct hire actions, cite the first legal authority code (LAC)/legal authority for all permanent, term, temporary, or special demonstration project appointments as Z2U/Public Law 103-337. The second LAC/legal authority will be cited as the appropriate direct hire authority, Z5C/Direct Hire Authority (appropriate legal authority).

b. When documenting reassignment actions, cite the LAC/legal authority as Z2U/Public Law 103-337.

(2) Hiring Demonstrated Exceptional Talent Versus Credentials

As provided by OPM “General Schedule Qualification Standards,” paragraph 4.g., in the “Application of Qualification Standards” section, “Educational and Training Provisions or Requirements” subsection, STRLs may consider demonstrated exceptional experience or a combination of experience and education in lieu of a candidate's meeting OPM individual occupational qualification requirements for S&E positions. Utilizing the STRL modification to this provision, the STRLs may use one SME, instead of a panel of at least two, to conduct a comprehensive evaluation of an applicant's entire background, with full consideration given to both education and experience, to determine a candidate's qualifications. In addition, the unique nature of STRL interdisciplinary positions allows for an STRL manager with direct knowledge of the mission and position requirements, regardless of his or her occupational series or military occupation code, to serve as a SME to represent the needs of the organization.

Demonstrated exceptional experience is defined as experience that reflects significant accomplishment directly applicable to the position to be filled. This is evinced through a substantial record of experience, achievement, and/or publications that demonstrate expertise in an appropriate professional/scientific field. A written analysis by the SME will document the candidate's experience, achievements, and publications used for qualification determination.

Documentation justifying the employee's qualifications will be placed in the employee's electronic official personnel file (e-OPF) to ensure the employee is considered qualified for the specific occupational series in the future.

(3) Official transcripts

The requirement to have official transcripts prior to establishing an EOD is waived. STRLs and servicing personnel offices may use unofficial transcripts or a letter from a registrar or dean to make qualification determinations, thus eliminating several days or weeks from the current hiring timeline. Official transcripts must be received within 30 calendar days after EOD.

Once unofficial transcripts or a letter from a registrar or dean is received, the servicing personnel office will review qualifications and begin the onboarding process. Applicants will be asked to request and submit official transcripts to the servicing personnel office, but an EOD may be established prior to receipt. Applicants will sign a statement of understanding (SOU) as part of their pre-employment paperwork. Risk is low and mitigated by requiring applicants to sign the SOU prior to their EOD. The SOU will include language stipulating that if official transcripts are not provided or fail to show proof that individuals meet the qualification requirements, individuals may be subject to adverse actions up to and including removal, as determined by specific circumstances by applicable regulations.

The SOU will regulate the applicants who do not have the degrees required for the positions or who may have been dishonest during the hiring process. The SOU will be maintained in the employee's e-OPF. Once official transcripts have been received by the servicing personnel office, they will be verified in the personnel system and uploaded into the employee's e-OPF.

(4) Direct Hire Authority

STRLs may appoint qualified candidates to those positions that involve 51 percent or more of time spent in direct support of STRL activities; that are identified by the STRLs as hard to fill; that have a history of high turnover; or that require unique, laboratory-related skillsets, without regard to the provisions of 5 U.S.C. chapter 33, subchapter I (excluding sections 3303, 3308, and 3328 of such title), as determined by the STRL director.

a. Use of this appointment authority must comply with merit system principles.

b. Appointments may be made on permanent, term, or temporary basis.

c. When documenting personnel actions, cite the first LAC/legal authority for all permanent, term, temporary, or special demonstration project appointments as Z2U/Public Law 103-337. The second LAC/legal authority will be cited as Z5C/Direct Hire Auth (STRL-Direct Support) (with appropriate legal authority once assigned.)

d. STRLs will document requirements for how positions qualify for usage of this authority in their IOPs.

e. STRL positions not classified under the broad banding structure will be listed in IOPs.

(5) Flexible-Length and Renewable-Term Appointments for Support Positions

STRLs may use flexible-length and renewable-term appointments to appoint qualified candidates whose positions involve 51 percent or more of time spent in direct support of STRL activities for a period of more than one year but not more than six years. The appointment of any individual under this authority may be extended without limit in up to six-year increments at any time during any term of service under conditions set forth by the STRL director. The provisions described in 82 FR 43339, II.A.1., apply to appointments made under this authority.

(6) Student Loan Repayment

STRLs may provide student loan repayment options that are in line with current tuition costs and adjusted based on inflation without higher level approval. This authority provides an STRL the ability to repay all or part of an outstanding qualifying student loan or loans previously taken out by a current STRL employee or a candidate to whom an offer of employment has been made.

Beginning in 2020, the amount of student loan repayment benefits provided by an STRL is subject to both of the following limits:

a. Up to $25,000 per employee per calendar year.

b. A total of $125,000 per employee.

OUSD(R&E) may increase these amounts as deemed necessary to stay competitive with private industry and academia. Eligibilities, conditions, qualifying student loans, and required service agreements remain the same as found in 5 CFR part 537. Loan payments made by an STRL under this part do not exempt an employee from his or her responsibility and/or liability for any loan(s) the individual has taken out. The employee is responsible for any income tax obligations resulting from the student loan repayment benefit.

(7) Security Eligibility

STRLs have authority to appoint individuals to Critical-Sensitive (CS) and Special-Sensitive positions prior to a final favorable eligibility determinations at the Top Secret/SCI level. Processes and pre-employment waiver requirements similar to those afforded CS positions will be applied in these situations. For the purposes of STRLs, an emergency or national interest that necessitates an appointment prior to the completion of the investigation and adjudication process includes an STRL's inability to meet mission requirements. Each applicant's Standard Form 86 “Questionnaire for National Security Positions,” fingerprints, and pre-screen questionnaire will be reviewed, and a favorable pre-screening eligibility determination will be made prior to any individual being given a final job offer and EOD. Also, each STRL will provide the written documentation needed to support a waiver decision to the appointing authority, who will document the reason for the appointment and ensure the justification is sufficient before a final offer of employment is made.

The individual will perform duties and occupy a location permitted by their current security eligibility (interim or final), but not higher than Top Secret. The applicant may be required to sign a statement of understanding that documents that the pre-appointment decision was made based on limited information, and that continued employment depends upon the completion of a personnel security investigation (tier 3 or 5) and favorable adjudication of the full investigative results.

B. Evaluation

Procedures for evaluating these authorities will be incorporated into the STRL demonstration project evaluation processes conducted by the STRLs, OUSD(R&E), or Component headquarters, as appropriate.

C. Reports

STRLs will track and provide information and data on the use of these authorities when requested by the Component headquarters or OUSD(R&E).

III. Required Waivers to Law and Regulations

BILLING CODE 5001-06-P

Dated: December 1, 2020.
Kayyonne T. Marston,
Alternate OSD Federal Register Liaison Officer, Department of Defense.

[FR Doc. 2020-26775 Filed 12-4-20; 8:45 am]

BILLING CODE 5001-06-C